DEPARTMENT OF ENERGY

Federal Energy Regulatory Commission

[Project No. 2955-011]

City of Watervliet, New York; Notice of Application Ready for Environmental Analysis and Soliciting Comments, Recommendations, Terms and Conditions, and Prescriptions

Take notice that the following hydroelectric application has been filed with the Commission and is available for public inspection.

a. Type of Application: Subsequent Minor License.

b. Project No.: P-2955-011.

c. Date Filed: February 28, 2020.

d. Applicant: City of Watervliet, New York.

e. Name of Project: Normanskill Hydroelectric Project.

f. Location: The project is located on the Normans Kill in Guilderland, Albany County, New York. The project does not occupy any federal land.

g. Filed Pursuant to: Federal Power Act 16 U.S.C. 791 (a)-825(r).

h. Applicant Contact: Michele E. Stottler, Gomez and Sullivan Engineers, DPC, 399 Albany Shaker Road, Suite 203, Loudonville, NY 12211; (518) 407-0050; email—mstottler@gomezandsullivan.com or Joseph LaCivita, General Manager, The City of Watervliet, 2 Fifteenth Street, Watervliet, NY 12189; (518) 270-3800; email—jlacivita@watervliet.com.

i. FERC Contact: Woohee Choi at (202) 502-6336; or woohee.choi@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-2955-011.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Normanskill Hydroelectric Project. Commission staff intends to conduct its NEPA review in accordance with CEQ's new regulations.

l. The Normanskill Project consists of: (1) A 380-foot-long reinforced concrete Ambursen-type dam with a 306-foot-long overflow section having a crest elevation of 259 feet National Geodetic Vertical Datum of 1929 (NGVD29) surmounted by 3-foot-high flashboards; (2) a 380-acre reservoir with a gross volume of 3,600 acre-feet at the normal maximum pool elevation of 262 feet NGVD29; (3) an intake structure and sluiceway; (4) a 700-foot-long, 6-foot-diameter, concrete-encased steel, buried penstock; (5) a reinforced concrete underground powerhouse containing a single 1,250-kilowatt tube-type generating unit; (6) a 600-foot-long, 2.4-kilovolt (kV) transmission line; (7) a 2.4/13.2-kV transformer bank; and (8) appurtenant facilities.

The Normanskill Project is operated in a run-of-river mode with an average annual generation of 2,863 megawatt-hours between 2010 and 2019.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Milestone | Target date
Deadline for Filing Comments, Recommendations, and Agency Terms and Conditions/Prescriptions | July 2021.
Deadline for Filing Reply Comments | August 2021.

Dated: May 11, 2021.
Kimberly D. Bose,
Secretary.

[FR Doc. 2021-10329 Filed 5-14-21; 8:45 am]

BILLING CODE 6717-01-P